DEPARTMENT OF DEFENSE

Department of the Army

Notice of Intent To Grant a Partially Exclusive License; AEgis Technologies Group, Inc.

AGENCY: Department of the Army, DoD.

ACTION: Notice.

SUMMARY: In accordance with 35 U.S.C. 209(e) and 37 CFR part 404.7(a)(1)(i), the Department of the Army announces the intent to grant a revocable, non-assignable, partially exclusive license to AEgis Technologies Inc., Huntsville, Alabama, for the Joint Embedded Messaging System (JEMS) government-owned software for efficient manipulation of data. Joint Embedded Messaging System (JEMS) routes and translates messages and protocols for command and control (C2), simulation, and other systems using a configurable application for input and output formats, providing interoperability solutions while not requiring software modifications for data compatibility.

DATES: Anyone wishing to object to the grant of this license can file written objections, along with supporting evidence, if any, within 15 days from the date of this publication.

ADDRESSES: Written objections are to be filed with the Office of Research and Technology Applications, SDMC-CT (Ms. Susan D. McRae), Bldg. 5220, Von Braun Complex, Room 5078, Redstone Arsenal, AL 35898.

FOR FURTHER INFORMATION CONTACT: Ms. Joan Gilsdorf, Patent Attorney, email: christine.j.gilsdorf.civ@mail.mil; (256) 955-3213 or Ms. Susan D. McRae, Office of Research and Technology Applications (ORTA), email: susan.d.mcrae.civ@mail.mil; (256) 955-1501.

Brenda S. Bowen,
Army Federal Register Liaison Officer.

[FR Doc. 2016-09993 Filed 4-28-16; 8:45 am]

BILLING CODE 5001-03-P